DEPARTMENT OF VETERANS AFFAIRS

Advisory Committee on Disability Compensation, Notice of Meeting

The Department of Veterans Affairs (VA) gives notice under the Federal Advisory Committee Act, 5 U.S.C. Ch. 10, that the Advisory Committee on Disability Compensation (hereinafter the Committee) will hold meeting sessions on Tuesday, August 22, 2023, through Thursday, August 24, 2023, at various locations in Washington, DC and shown below.

The meeting sessions will begin and end as follows:

Date | Time | Location | Open session
August 22, 2023 | 10 a.m.-12 p.m. Eastern Standard Time (EST) | The Ritz-Carlton, Pentagon City, 1250 S Hayes St., Arlington, VA 22202 | Yes.
August 22, 2023 | 1-4 p.m. (EST) | MDEO Site Visit—Contract Examination Vendor Tour, The Ritz-Carlton, Pentagon City, 1250 S Hayes St., Arlington, VA 22202 | No.
August 23, 2023 | 9 a.m.-4 p.m. (EST) | The Ritz-Carlton, Pentagon City, 1250 S Hayes St., Arlington, VA 22202 | Yes.
August 24, 2023 | 9 a.m.-12 p.m. (EST) | Washington VA Medical Center, 50 Irving Street NW, Washington, DC 20422-0001 | No.
August 24, 2023 | 1-4 p.m. (EST) | Washington, D.C. Vet Center, 1296 Upshur Street NW, Washington, DC 20011 | No.

Sessions are open to the public, except when the Committee is conducting a tour of VA facilities. Tours of VA facilities are closed, to protect Veterans' privacy and personal information, by 5 U.S.C. 552b(c)(6).

The purpose of the Committee is to advise the Secretary of Veterans Affairs on the maintenance and periodic readjustment of the VA Schedule for Rating Disabilities (VASRD). The Committee is to assemble and review relevant information relating to the nature and character of disabilities arising during service in the Armed Forces, provide an ongoing assessment of the effectiveness of the rating schedule, and give advice on the most appropriate means of responding to the needs of Veterans relating to disability compensation

On Tuesday, August 22, the Committee will convene an open session from 10 a.m. to 12 p.m. EST at The Ritz-Carlton, Pentagon City. The agenda includes Committee planning and May/June meeting debriefings, and hearing briefings from the Medical Disability Examination Office (MDEO). From 1 to 4 p.m. EST, the Committee will reconvene a closed session as it tours an MDEO Contract Examination Vendor. Tours of VA facilities are closed to protect Veterans' privacy and personal information, in accordance with 5 U.S.C Sec. 552b(c)(6).

On Wednesday, August 23, the Committee will convene an open session from 9 a.m. to 4 p.m. EST to hear briefings and updates on VASRD to include an overview of the regulation process, overview briefing(s) on the Suicide Prevention Program, Committee discussion/planning and the Committee's 2024 Biennial Report planning.

On Thursday, August 24, the Committee will convene from 9 a.m. to 12 p.m. EST for a closed session as it tours the VA Medical Center, Washington, DC from. From 1 to 4 p.m. EST, the Committee will reconvene a closed session as it tours the Washington, D.C. Vet Center. Tours of VA facilities are closed to protect Veterans' privacy and personal information, in accordance with 5 U.S.C Sec. 552b(c)(6).

The public is invited to address the Committee during the public comment period, which will be open for 30-minutes from 3:30 p.m. to 4 p.m. EST on Wednesday, August 23, 2023. The public can also submit one-page summaries of their written statements for the Committee's review. Public comments must be received no later than August 15, 2023, for inclusion in the official meeting record. Please send these comments to Jadine Piper of the Veterans Benefits Administration, Compensation Service, at 21C_ACDC.VBACO@va.gov.

Additionally, any member of the public planning to attend or seeking additional information, or those who wish to obtain a copy of the agenda should contact Jadine Piper at 21C_ACDC.VBACO@va.gov, and provide their name, email address and phone number. The call-in number (United States, Chicago) for those who would like to attend the meeting is: 872-701-0185; phone conference ID: 810 709 916#. Members of the public may also access the meeting by pasting the following URL into a web browser: bit.ly/ACDCPublicAugustMeeting.

Dated: September 1, 2023.
Jelessa M. Burney,
Federal Advisory Committee Management Officer.

[FR Doc. 2023-19367 Filed 9-7-23; 8:45 am]

BILLING CODE P